DEPARTMENT OF THE INTERIOR

Bureau of Land Management

[ID-010-0777-XQ]

Notice of Public Meeting

AGENCY: Lower Snake River District, Bureau of Land Management, Interior.

ACTION: Meeting notice.

SUMMARY: The Lower Snake River District Resource Advisory Council will meet in Boise to discuss sage grouse habitat management, proposed land exchanges, grazing allotment assessments in the Jarbidge Resource Area, and other issues.

DATES: February 22, 2000. The meeting will begin at 9 am. Public comment periods will be held at 9:30 am and 4 pm.

ADDRESSES: The meeting will be held at the Lower Snake River District Office, located at 3948 Development Avenue, Boise, Idaho.

FOR FURTHER INFORMATION CONTACT: Barry Rose, Lower Snake River District Office, 208-384-3393.

Dated: January 24, 2000.
Katherine Kitchell,
District Manager.

[FR Doc. 00-2202 Filed 2-1-00; 8:45 am]

BILLING CODE 4310-GG-P